DEPARTMENT OF VETERANS AFFAIRS

Veterans' Advisory Committee on Rehabilitation, Notice of Meeting

The Department of Veterans Affairs (VA) gives notice under the Federal Advisory Committee Act, 5 U.S.C. App. 2, that the Veterans' Advisory Committee on Rehabilitation will meet on October 15-16, 2013, in Room 530 at the Department of Veterans Affairs, 810 Vermont Avenue, Washington, DC. The meeting will begin at 8 a.m. each day and adjourn at 5 p.m. on October 15 and at noon on October 16. The meeting will be open to the public.

The purpose of the Committee is to advise the Secretary of Veterans Affairs on the rehabilitation needs of Veterans with disabilities and provide a review of VA programs and activities that are designed to meet these needs.

The Committee will receive update briefings on various VA programs designed to enhance the rehabilitative potential of recently-discharged Veterans. Members will also begin consideration of potential recommendations to be included in the Committee's next annual report.

No time will be allocated at this meeting for receiving oral presentations from the public. Interested parties should provide written comments for review by the Committee to Teri Nguyen, Designated Federal Officer, VA, Veterans Benefits Administration (28), 810 Vermont Avenue NW., Washington, DC 20420, or via email at Teri.Nguyen1@va.gov. In the communication with the Committee, writers must identify themselves and state the organization, association or person(s) they represent. Because the meeting is being held in a government building, a photo I.D. must be presented at the Guard's Desk as a part of the clearance process. Therefore, you should allow an additional 15 minutes before the meeting begins. Individuals who wish to attend the meeting or seeking additional information should contact Teri Nguyen at (202) 461-9600.

By Direction of the Secretary:
Dated: September 6, 2013.
Vivian Drake,
Committee Management Officer.

[FR Doc. 2013-22098 Filed 9-10-13; 8:45 am]

BILLING CODE P